DEPARTMENT OF TRANSPORTATION

Surface Transportation Board

[STB Finance Docket No. 34242 (Sub-No. 1)]

Union Pacific Railroad Company-Trackage Rights Exemption-The Burlington Northern and Santa Fe Railway Co.

AGENCY: Surface Transportation Board, DOT.

ACTION: Petition for exemption.

SUMMARY: The Board, under 49 U.S.C. 10502, exempts the trackage rights described in STB Finance Docket No. 34242 ¹ to permit the trackage rights to expire on or about November 23, 2002, in accordance with the agreement of the parties.

¹ On August 14, 2002, the Union Pacific Railroad Company (UP) filed a notice of exemption under the Board's class exemption procedures at 49 CFR 1180.2(d)(7). The notice covered the agreement by The Burlington Northern and Santa Fe Railway Company (BNSF) to grant temporary overhead trackage rights to UP over BNSF's rail lines between BNSF milepost 460.0 near Sweetwater, TX, and BNSF milepost 655.7 near Clovis, NM, a distance of approximately 221.2 miles. See Union Pacific Railroad Company-Trackage Rights Exemption-The Burlington Northern and Santa Fe Railway Company, STB Finance Docket No. 34242 (STB served Sept. 3, 2002). The trackage rights operations under the exemption were scheduled to be consummated on August 22, 2002.

DATES: This exemption will be effective on November 6, 2002. Petitions to stay must be filed by October 17, 2002. Petitions to reopen must be filed by October 28, 2002.

ADDRESSES: An original and 10 copies of all pleadings referring to STB Finance Docket No. 34242 (Sub-No. 1) must be filed with the Surface Transportation Board, 1925 K Street, NW., Washington, DC 20423-0001. In addition, a copy of all pleadings must be served on petitioner's representative: Robert T. Opal, 1416 Dodge Street, Room 830, Omaha, NE 68179.

FOR FURTHER INFORMATION CONTACT: Joseph H. Dettmar (202) 565-1600. [Federal Information Relay Service (FIRS) for the hearing impaired: 1-800-877-8339.]

SUPPLEMENTARY INFORMATION: Additional information is contained in the Board's decision. To purchase a copy of the full decision, write to, call, or pick up in person from: Dā 2 Dā Legal Copy Service, Suite 405, 1925 K Street, NW., Washington, DC 20006. Telephone: (202) 293-7776. [Assistance for the hearing impaired is available through FIRS at 1-800-877-8339.]

Board decisions and notices are available on our website at “http://www.stb.dot.gov.”

Decided: September 26, 2002.
By the Board, Chairman Morgan and Vice Chairman Burkes.
Vernon A. Williams,
Secretary.

[FR Doc. 02-25272 Filed 10-4-02; 8:45 am]

BILLING CODE 4915-00-P